DEPARTMENT OF COMMERCE

National Oceanic and Atmospheric Administration

[I.D. 102402B]

Gulf of Mexico Fishery Management Council; Public Meetings

AGENCY: National Marine Fisheries Service (NMFS), National Oceanic and Atmospheric Administration (NOAA), Commerce.

ACTION: Notice of cancellation of a public meeting.

SUMMARY: The Gulf of Mexico Fishery Management Council (Council) has cancelled a joint meeting of the Reef Fish Management and Artificial reef Committees that was scheduled for Wednesday, November 13, 2002, from 8;30 to 9;30 a.m. The meeting was announced in the Federal Register on October 29, 2002.

FOR FURTHER INFORMATION CONTACT: Wayne E. Swingle, Executive Director, Gulf of Mexico Fishery Management Council; telephone (813)228-2815.

SUPPLEMENTARY INFORMATION: The initial notice was published on October 29, 2002 (67 FR 65954). All other previously published information remains the same.

Dated: November 1, 2002.
Richard W. Surdi,
Acting Director, Office of Sustainable Fisheries, National Marine Fisheries Service.

[FR Doc. 02-28338 Filed 11-6-02; 8:45 am]

BILLING CODE 3510-22-S